FEDERAL MINE SAFETY AND HEALTH REVIEW COMMISSION

Sunshine Act Meetings

TIME AND DATE: 10 a.m., Tuesday, June 6, 2023.

PLACE: The Richard V. Backley Hearing Room, Room 511, 1331 Pennsylvania Avenue NW, Suite 504 North, Washington, DC 20004 (enter from F Street entrance).

Phone Number for Listening to Meeting: 1-(866) 236-7472.

Passcode: 678-100.

STATUS: Open.

MATTERS TO BE CONSIDERED: The Commission will consider and act upon the following in open session: Perry County Resources, LLC, Docket No. KENT 2022-0024. (Issues include whether the Judge abused his discretion in denying the approval of the settlement motion based on the Secretary of Labor's refusal to provide a section 104(b) order that was associated with a citation that was a subject of the motion to approve settlement.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

(Authority: 5 U.S.C. 552b)

Dated: May 23, 2023.
Sarah L. Stewart,
Deputy General Counsel.

[FR Doc. 2023-11289 Filed 5-23-23; 11:15 am]

BILLING CODE 6735-01-P